DEPARTMENT OF AGRICULTURE

Agricultural Research Service

Office of the Under Secretary, Research, Education, and Economics; Notice of the Advisory Committee on Biotechnology and 21st Century Agriculture Meeting

AGENCY: Agricultural Research Service, USDA.

ACTION: Notice of meeting.

SUMMARY: In accordance with the Federal Advisory Committee Act, 5 U.S.C. App. II, the United States Department of Agriculture announces a meeting of the Advisory Committee on Biotechnology and 21st Century Agriculture (AC21).

DATES: February 7-8, 2005, 8 a.m. to 4 p.m. both days. Written requests to make oral presentations at the meeting must be received by the contact person identified herein at least three business days before the meeting.

ADDRESSES: Williamsburg Room (Room 104A), Jamie L. Whitten Federal Building, 12th Street and Independence Avenue, SW., Washington, DC 20250. Requests to make oral presentations at the meeting may be sent to the contact person at USDA, Office of the Deputy Secretary, 202 B Jamie L. Whitten Federal Building, 12th Street and Independence Avenue, SW., Washington, DC 20250.

FOR FURTHER INFORMATION CONTACT: Michael Schechtman, Designated Federal Official, Office of the Deputy Secretary, USDA, Telephone (202) 720-3817; Fax (202) 690-4265; E-mail mschechtman@ars.usda.gov.

SUPPLEMENTARY INFORMATION: The eighth meeting of the AC21 has been scheduled for February 7-8, 2004. The AC21 consists of 18 members representing the biotechnology industry, the seed industry, international plant genetics research, farmers, food manufacturers, commodity processors and shippers, environmental and consumer groups, and academic researchers. In addition, representatives from the Departments of Commerce, Health and Human Services, and State, and the Environmental Protection Agency, the Council on Environmental Quality, and the Office of the United States Trade Representative serve as “ex officio” members.

The AC21 will discuss, with the intent of finalizing, a draft report on the issue of the proliferation of traceability and mandatory labeling regimes for biotechnology-derived products in other countries, the implications of those regimes, and what industry is doing to attempt to address those requirements for products shipped to those countries. The AC21 will further discuss how best to present this report to the Secretary of Agriculture. The AC21 at this meeting will also consider its other wide-ranging report examining the impacts of agricultural biotechnology on American agriculture and USDA over the next 5 to 10 years. In particular, the AC21 will review portions of the report, in various stages of development, drafted by various work groups, specifically the two introductory report chapters; key definitions; potential issues to consider; and preparing for the future. In this review, the AC21 will provide comments and suggestions for how the Committee and work groups can develop the report and move it toward completion. The AC21 will seek to achieve consensus on the contents of the report.

Background information regarding the work of the AC21 will be available on the USDA Web site at http://www.usda.gov/agencies/biotech/ac21.html. On February 7, 2005, if time permits, reasonable provision will be made for oral presentations of no more than five minutes each in duration.

The meeting will be open to the public, but space is limited. If you would like to attend the meetings, you must register by contacting Ms. Dianne Harmon at (202) 720-4074, by fax at (202) 720-3191 or by e-mail at dharmon@ars.usda.gov at least 5 days prior to the meeting. Please provide your name, title, business affiliation, address, and telephone and fax numbers when you register. If you require a sign language interpreter or other special accommodation due to disability, please indicate those needs at the time of registration.

Dated: January 11, 2005.
Rodney J. Brown,
Deputy Under Secretary, Research, Education, and Economics.

[FR Doc. 05-1233 Filed 1-21-05; 8:45 am]

BILLING CODE 3410-03-P